DEPARTMENT OF LABOR

Employment and Training Administration

Comment Request for Information Collection for the Jobs and Innovation Accelerator Challenge (JIAC) and Advanced Manufacturing JIAC (AM-JIAC) Grants, New Collection

AGENCY: Employment and Training Administration (ETA), Labor.

ACTION: Notice.

SUMMARY: The Department of Labor, as part of its continuing effort to reduce paperwork and respondent burden, conducts a preclearance consultation program to provide the public and Federal agencies with an opportunity to comment on proposed and/or continuing collections of information in accordance with the Paperwork Reduction Act of 1995 [44 U.S.C. 3506(c)(2)(A)] (PRA). The PRA helps ensure that respondents can provide requested data in the desired format with minimal reporting burden (time and financial resources), with collection instruments that are clearly understood, and that the impact of collection requirements on respondents can be properly assessed.

Currently, ETA is soliciting comments concerning the collection of data for the evaluation of the JIAC and AM-JIAC grants and seeks approval for two rounds of in-person visits to a subset of grantee clusters and a survey of an estimated 330 respondents across all 30 grants. The site visits will involve nine purposefully selected clusters in round one and a return visit to three of those clusters in round two. The visits will consist of semi-structured interviews about implementation of the JIAC initiative to be conducted with cluster management staff, activity leaders, frontline staff, participants, the local workforce investment boards, employer groups, and local economic development agencies. The survey will involve at least 11 respondents in each of the 30 clusters. Respondents within each cluster will include one cluster manager, one ETA funding stream administrator (if this person is different from the cluster manager) and either nine or 10 additional partner organizations. The survey will focus on cluster organization, communication, funding sufficiency, the types and usefulness of Federal support, and program management and sustainability.

DATES: Submit written comments to the office listed in the addresses section below on or before December 26, 2014.

ADDRESSES: Send written comments to Gloria Salas-Kos, Office of Policy Development and Research, Room N5641, Employment and Training Administration, U.S. Department of Labor, 200 Constitution Avenue NW., Washington, DC 20210. Telephone number: 202-693-3596 (this is not a toll-free number). Individuals with hearing or speech impairments may access the telephone number above via TTY by calling the toll-free Federal Information Relay Service at 1-877-889-5627 (TTY/TDD). Fax: 202-693-2766. Email: salas-kos.gloria@dol.gov. To obtain a copy of the proposed information collection request, please contact the person listed below.

FOR FURTHER INFORMATION CONTACT: Gloria Salas-Kos, Office of Policy Development and Research, Room N5641, Employment and Training Administration, U.S. Department of Labor, 200 Constitution Avenue NW., Washington, DC 20210. Telephone number: 202-693-3596 (this is not a toll-free number).

SUPPLEMENTARY INFORMATION:

I. Background

As of May 2011, when the first round of JIAC grants was issued, the unemployment rate in the United States was nine percent. Almost 14 million people were looking for jobs. Although the rate of unemployment has since fallen by almost two percentage points, it remains higher than at any point over the decade leading up to the “Great Recession” that began in 2007. As the population has continued to grow, job growth has surfaced to the top of the nation's economic agenda. The economic downturn has led to greater attention to the role of regional innovation clusters as drivers for improving the economy, creating jobs and employment, and enhancing U.S. competitiveness.

ETA has been an active Federal partner in the funding and promotion of regional innovation clusters for the past decade. Specifically, it has sought to address one of the challenges that the clusters face as they pursue economic growth: Employers in some high-wage industries with the potential for creating jobs report trouble finding American workers with the skills to fill the vacancies. Under the authority of section 414(c) of the American Competitiveness and Workforce Improvement Act of 1998, as amended (29 U.S.C. 2916a), ETA invests heavily in grants to build the skills and qualifications of domestic unemployed workers so that they can fill these positions and reduce the need for foreign workers under the H-1B visa program. In 2011 and 2012, ETA partnered with other Federal funding agencies to support the JIAC grants competitions; ETA has commissioned this study to evaluate and learn from these investments.

The evaluation will address the following five key research questions:

1. What is the role of multiagency collaboration in the planning and implementation of cluster activities?

2. How and in what ways do regional clusters, programs, and partnerships develop under the grant?

3. What workforce-related outcomes do the clusters report achieving through this initiative?

4. How is the initiative managed within each cluster? What practices are being implemented to promote sustainability of grant resources, partnerships, and activities?

5. What are key lessons learned through implementation? How and under what circumstances might these lessons be replicated?

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: New collection.

Title: Jobs and Innovation Accelerator Challenge grants evaluation.

OMB Number: 1205—0NEW.

Affected Public: Businesses or other for-profit, and not-for-profit institutions.

Burden and Cost Estimates for JIAC Collection
| Number of respondents | Burden per response (minutes) | Total respondent burden (hours) | Total burden cost
Site Visits Total |  |  | 192.75 | $3,867
Round 1 total | 165 | 52 | 142.50 | 2,849
Cluster members | 147 | 55 | 133.50 | 2,705
Program participants | 18 | 30 | 9.00 | 144
Round 2 total | 54 | 56 | 50.25 | 1018
Cluster members | 54 | 56 | 50.25 | 1018
Survey Total |  |  | 141.50 | 2,867
Cluster member contact information submission | 30 | 30 | 15.00 | 304
Online survey completion | 330 | 23 | 126.50 | 2,563
Total for Site Visits and Survey |  |  | 334.25 | 6,734

Total Estimated Annual Other Costs Burden: $0.

We will summarize, and/or include in the request for OMB approval of the ICR, the comments received in response to this comment request; they will also become a matter of public record.

Portia Wu,
Assistant Secretary for Employment and Training, Labor.

[FR Doc. 2014-25421 Filed 10-24-14; 8:45 am]

BILLING CODE 4510-FN-P